DEPARTMENT OF COMMERCE

National Oceanic and Atmospheric Administration

[I.D. 051900B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Social Sciences Advisory Committee and a number of joint meetings of its Groundfish Oversight Committee and Groundfish Advisory Panel in June, 2000. Recommendations from the these groups will be brought to the full Council for formal consideration and action, if appropriate.

DATES: See SUPPLEMENTARY INFORMATION for specific dates and times.

ADDRESSES: See SUPPLEMENTARY INFORMATION for specific locations.

FOR FURTHER INFORMATION CONTACT: Paul J. Howard, Executive Director, New England Fishery Management Council; (978) 465-0492.

SUPPLEMENTARY INFORMATION:

Meeting Dates and Agendas

June 8, 2000, 10:00 a.m.—Social Sciences Advisory Committee Meeting

Location: Holiday Inn, One Newbury Street (Rt. 1 North), Peabody, MA 01960; telephone: (978) 535-4600.

The committee will discuss the social and economic issues associated with measures proposed for Amendment 10 to the Atlantic Sea Scallop Fishery Management Plan (FMP). The proposed measures include a rotational area management system for Atlantic sea scallops including possible access to the groundfish closed areas on Georges Bank and in Southern New England, modifications to trawl gear to require the same scallop selectivity as dredge gear, and a possible increase in the seven-person crew limit. The committee also will discuss the organization of workshops for improving social and economic analyses. Finally, the committee will receive an update on the work of the Council's Capacity Committee.

June 13, 2000, 9:30 a.m.—Joint Groundfish Committee and Advisory Panel Meeting

Location: Howard Johnson's Motor Lodge, Interstate Traffic Circle, Portsmouth, NH 03801; telephone: (603) 436-7600.

The committee and advisors will conduct a joint meeting to continue development of management options for Amendment 13 to the Northeast Multispecies FMP. They also will consider options for developing an area management system, or for a sector allocation system. Work on these options will continue at all meetings to be held in June. In addition, the committee will continue to develop changes to current management measures that will improve the effectiveness of the existing management system. The goal is to develop management alternatives for review at public hearings in the fall of 2000. This same agenda will be followed for the following list of joint Groundfish Committee and Advisory Panel meetings.

June 20, 2000, 9:30 a.m.—Joint Groundfish Committee and Advisory Panel Meeting.

Location: Radisson Hotel, 35 Governor Winthrop Boulevard, New London, CT 06320; telephone: (860) 443-7000.

June 27, 2000, 9:30 a.m.—Joint Groundfish Committee and Advisory Panel Meeting.

Location: Sheraton Inn—Providence Airport, 1850 Post Road, Warwick, RI 02886; telephone: (401) 738-4000.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 22, 2000.
Richard W. Surdi,
Acting Director, Office of Sustainable Fisheries, National Marine Fisheries Service.

[FR Doc. 00-13186 Filed 5-24-00; 8:45 am]

BILLING CODE 3510-22-F